DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of two individuals and five entities that have been placed on OFAC's Specially Designated Nationals and Blocked Persons List based on OFAC's determination that one or more applicable legal criteria were satisfied. All property and interests in property subject to U.S. jurisdiction of these persons and these entities are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On May 17, 2018, OFAC determined that the property and interests in property subject to U.S. jurisdiction of the following individuals and entities are blocked under the relevant sanctions authority listed below.

Individuals

1. SAFI-AL-DIN, Abdallah (a.k.a. SAFIEDDINE, Abdullah); DOB 08 Jul 1960; Additional Sanctions Information—Subject to Secondary Sanctions Pursuant to the Hizballah Financial Sanctions Regulations; Gender Male; Passport 3527575 (Lebanon); Identification Number 637166 (Lebanon) (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, an entity determined to be subject to E.O. 13224.

2. BAZZI, Mohammad Ibrahim (a.k.a. BAZZI, Mohamed; a.k.a. BAZZI, Muhammad Ibrahim; a.k.a. BAZZI, Muhammed), Adnan Al-Hakim Street, Yahala Bldg., Jnah, Lebanon; Eglantierlaan 13-15, 2020, Antwerpen, Belgium; Villa Bazzi, Dohat Al-Hoss, Lebanon; DOB 10 Aug 1964; POB Bent Jbeil, Lebanon; nationality Lebanon; alt. nationality Belgium; Additional Sanctions Information—Subject to Secondary Sanctions Pursuant to the Hizballah Financial Sanctions Regulations; Gender Male; Passport EJ341406 (Belgium) expires 31 May 2017; alt. Passport 750249737; alt. Passport 899002098 (United Kingdom); alt. Passport 487/2007 (Lebanon); alt. Passport RL3400400 (Lebanon); alt. Passport 0236370 (Sierra Leone); alt. Passport D0000687 (The Gambia) (individual) [SDGT] (Linked To: HIZBALLAH).

Designated pursuant to section 1(c) of Executive Order 13224 of September 23, 2001, “Blocking Property and Prohibiting Transactions With Persons Who Commit, Threaten to Commit, or Support Terrorism” (E.O. 13224) for acting for or on behalf of HIZBALLAH, an entity determined to be subject to E.O. 13224.

Entities

1. AFRICA MIDDLE EAST INVESTMENT HOLDING SAL, Beirut, Lebanon; Additional Sanctions Information—Subject to Secondary Sanctions Pursuant to the Hizballah Financial Sanctions Regulations; Commercial Registry Number 1901011 (Lebanon) [SDGT] (Linked To: BAZZI, Mohammad Ibrahim).

Designated pursuant to section 1(c) of Executive Order 13224 of September 23, 2001, “Blocking Property and Prohibiting Transactions With Persons Who Commit, Threaten to Commit, or Support Terrorism” (E.O. 13224) for being owned or controlled by BAZZI, Mohammad Ibrahim, an individual determined to be subject to E.O. 13224.

2. CAR ESCORT SERVICES S.A.L. OFF SHORE (a.k.a. CAR ESCORT SERVICES SAL (OFF-SHORE)), Beirut, Lebanon; Additional Sanctions Information—Subject to Secondary Sanctions Pursuant to the Hizballah Financial Sanctions Regulations; Commercial Registry Number 1802189 (Lebanon) [SDGT] (Linked To: BAZZI, Mohammad Ibrahim; Linked To: CHARARA, Ali Youssef).

Designated pursuant to section 1(c) of Executive Order 13224 of September 23, 2001, “Blocking Property and Prohibiting Transactions With Persons Who Commit, Threaten to Commit, or Support Terrorism” (E.O. 13224) for being owned or controlled by BAZZI, Mohammad Ibrahim and CHARARA, Ali Youssef, individuals determined to be subject to E.O. 13224.

3. EURO AFRICAN GROUP LTD, Standard Chartered House Building 16, Kairaba Avenue, Banjul, The Gambia; P.O. Box 636, Banjul, The Gambia; Additional Sanctions Information—Subject to Secondary Sanctions Pursuant to the Hizballah Financial Sanctions Regulations [SDGT] (Linked To: BAZZI, Mohammad Ibrahim).

Designated pursuant to section 1(c) of Executive Order 13224 of September 23, 2001, “Blocking Property and Prohibiting Transactions With Persons Who Commit, Threaten to Commit, or Support Terrorism” (E.O. 13224) for being owned or controlled by BAZZI, Mohammad Ibrahim, an individual determined to be subject to E.O. 13224.

4. GLOBAL TRADING GROUP NV (a.k.a. GLOBAL TRADING GROUP), Frankrijklei 39, 2nd Floor, Antwerpen 2000, Belgium; 22 Liverpool Street, Freetown, Sierra Leone; Standard Chartered Bank Building, 2nd floor, Kairaba Ave, Banjul, The Gambia; Rue de Canal, G83 Zone 4G, 01BP1280, Abidjan, Cote d Ivoire; Quartier les Cocotiers, Avenue Pape Jean Paul II, Lot 4274, Cotonou, Benin; website www.globaltradinggroup.com; Additional Sanctions Information—Subject to Secondary Sanctions Pursuant to the Hizballah Financial Sanctions Regulations; D-U-N-S Number 37-117-1419 [SDGT] (Linked To: BAZZI, Mohammad Ibrahim).

Designated pursuant to section 1(c) of Executive Order 13224 of September 23, 2001, “Blocking Property and Prohibiting Transactions With Persons Who Commit, Threaten to Commit, or Support Terrorism” (E.O. 13224) for being owned or controlled by BAZZI, Mohammad Ibrahim, an individual determined to be subject to E.O. 13224.

5. PREMIER INVESTMENT GROUP SAL (OFF-SHORE) (a.k.a. PREMIER INVESTMENT GROUP SAL; a.k.a. PREMIER INVESTMENT GROUP SAL OFF SHORE), Lazariste Building, Riad Solh Street, Beirut, Lebanon; El-Lazarieh Building Block 1-2a—Fourth Floor, Beirut, Lebanon; Additional Sanctions Information—Subject to Secondary Sanctions Pursuant to the Hizballah Financial Sanctions Regulations; Commercial Registry Number 1803907 (Lebanon) [SDGT] (Linked To: BAZZI, Mohammad Ibrahim).

Designated pursuant to section 1(c) of Executive Order 13224 of September 23, 2001, “Blocking Property and Prohibiting Transactions With Persons Who Commit, Threaten to Commit, or Support Terrorism” (E.O. 13224) for being owned or controlled by BAZZI, Mohammad Ibrahim, an individual determined to be subject to E.O. 13224.

Dated: May 17, 2018.
Andrea Gacki,
Acting Director, Office of Foreign Assets Control.

[FR Doc. 2018-10951 Filed 5-22-18; 8:45 am]

BILLING CODE 4810-AL-P